DEPARTMENT OF COMMERCE

International Trade Administration

[A-201-836]

Light-Walled Rectangular Pipe and Tube From Mexico: Preliminary Results and Partial Rescission of Antidumping Duty Administrative Review; 2011-2012

AGENCY: Import Administration, International Trade Administration, Department of Commerce.

SUMMARY: The Department of Commerce (the Department) is conducting an administrative review of the antidumping duty order on light-walled rectangular pipe and tube (LWR pipe and tube) from Mexico. The period of review (POR) is August 1, 2011, through July 31, 2012. The review covers three producers or exporters of subject merchandise, Regiomontana de Perfiles y Tubos S.A. de C.V. (Regiopytsa), Maquilacero S.A. de C.V. (Maquilacero), and Nacional de Acero S.A. de C.V. (NASA). For these preliminary results, we have found that Regiopytsa has sold subject merchandise at less than normal value during the POR and that Maquilacero has not sold subject merchandise at less than normal value during the POR. For NASA, we are rescinding this administrative review. Interested parties are invited to comment on these preliminary results.

DATES: Effective Date: September 6, 2013.

FOR FURTHER INFORMATION CONTACT: Brian Davis or David Cordell, AD/CVD Operations, Office 7, Import Administration, International Trade Administration, U.S. Department of Commerce, 14th Street and Constitution Avenue NW., Washington, DC 20230; telephone: (202) 482-7924 or (202) 482-0408, respectively.

SUPPLEMENTARY INFORMATION:

Scope of the Order

The merchandise subject to the order is certain welded carbon-quality light-walled steel pipe and tube, of rectangular (including square) cross section, having a wall thickness of less than 4 mm.¹ The welded carbon-quality rectangular pipe and tube subject to the order is currently classified under the Harmonized Tariff Schedule of the United States (HTSUS) subheadings 7306.61.50.00 and 7306.61.70.60. While HTSUS subheadings are provided for convenience and customs purposes, our written description of the scope of the order is dispositive.²

¹ See Decision Memorandum for the Preliminary Results of Antidumping Duty Administrative Review: Light-Walled Rectangular Pipe and Tube from Mexico, 2011-2012” from Gary Taverman, Senior Advisor for Antidumping and Countervailing Duty Operations, to Paul Piquado, Assistant Secretary for Import Administration, dated concurrently with this notice (Preliminary Decision Memorandum), for a complete description of the scope of the order.

² See Light-Walled Rectangular Pipe and Tube from Mexico, the People's Republic of China, and the Republic of Korea: Antidumping Duty Orders; Light-Walled Rectangular Pipe and Tube from the Republic of Korea: Notice of Amended Final Determination of Sales at Less Than Fair Value, 73 FR 45403, 45405 (August 5, 2008) (Orders).

Partial Rescission of Administrative Review

On August 31, 2012, NASA requested that the Department conduct a review of its exports of subject merchandise to the United States, and on November 1, 2012, NASA timely withdrew this request. NASA was the only interested party to request an administrative review of its exports of subject merchandise. Therefore, in accordance with 19 CFR 351.213(d)(1), we are rescinding this administrative review with respect to NASA.

Methodology

The Department has conducted this review in accordance with section 751(a)(1)(A) of the Tariff Act of 1930, as amended (the Act). For a full description of the methodology underlying our conclusions, see Preliminary Decision Memorandum, which is hereby adopted by this notice. The Preliminary Decision Memorandum is a public document and is on file electronically via Import Administration's Antidumping and Countervailing Duty Centralized Electronic Service System (IA ACCESS). IA ACCESS is available to registered users at http://iaaccess.trade.gov, and is available to all parties in the Central Records Unit, room 7046 of the main Department of Commerce building. In addition, a complete version of the Preliminary Decision Memorandum can be accessed directly on the Internet at http://www.trade.gov/ia/. The signed Preliminary Decision Memorandum and the electronic versions of the Preliminary Decision Memorandum are identical in content.

Preliminary Results of Review

The Department preliminarily determines that the following weighted-average dumping margins exist:

Producer or exporter | Weighted-average dumping margin (percent)
Regiomontana de Perfiles y Tubos S.A. de C.V. | 1.45
Maquilacero S.A. de C.V. | 0.00

Disclosure and Public Comment

The Department will disclose calculations performed, if applicable, for these preliminary results to the parties within five days of the date of publication of this notice in accordance with 19 CFR 351.224(b). Interested parties may submit written comments no later than 30 days after the date of publication of these preliminary results of review.³ Rebuttals to written comments may be filed no later than five days after the written comments are filed.⁴

³ See 19 CFR 351.309(c).

⁴ See 19 CFR 351.309(d).

Any interested party may request a hearing within 30 days of publication of this notice.⁵ Hearing requests should contain the following information: (1) The party's name, address, and telephone number; (2) the number of participants; and (3) a list of the issues to be discussed. Oral presentations will be limited to issues raised in the briefs. If a request for a hearing is made, parties will be notified of the time and date for the hearing to be held at the U.S. Department of Commerce, 1401 Constitution Avenue NW., Washington, DC 20230.⁶

⁵ See 19 CFR 351.310(c).

⁶ See 19 CFR 351.310(d).

The Department will issue the final results of this administrative review, which will include the results of its analysis of all issues raised in any such comments, within 120 days of publication of these preliminary results, pursuant to section 751(a)(3)(A) of the Act.

Assessment Rates

Upon completion of this administrative review, the Department shall determine, and U.S. Customs and Border Protection (CBP) shall assess, antidumping duties on all appropriate entries. If either respondent's weighted-average dumping margin is not zero or de minimis (i.e., less than 0.50 percent) in the final results of this review, we will calculate importer-specific assessment rates on the basis of the ratio of the total amount of dumping calculated for the importer's examined sales and the total entered value of those sales in accordance with 19 CFR 351.212(b)(1).⁷ Where either the respondent's weighted-average dumping margin is zero or de minimis, or an importer-specific assessment rate is zero or de minimis, we will instruct CBP to liquidate the appropriate entries without regard to antidumping duties.

⁷ In these preliminary results, the Department applied the weighted-average dumping margin calculation method adopted in Antidumping Proceedings: Calculation of the Weighted-Average Dumping Margin and Assessment Rate in Certain Antidumping Duty Proceedings; Final Modification, 77 FR 8101 (February 14, 2012).

The Department clarified its “automatic assessment” regulation on May 6, 2003.⁸ This clarification will apply to entries of subject merchandise during the POR that were produced by the companies included in these preliminary results of review and for which the reviewed companies did not know that the merchandise was destined for the United States. In such instances, we will instruct CBP to liquidate un-reviewed entries at the all-others rate if there is no rate for the intermediate company(ies) involved in the transaction.

⁸ See Antidumping and Countervailing Duty Proceedings: Assessment of Antidumping Duties, 68 FR 23954 (May 6, 2003).

In accordance with 19 CFR 356.8(a), the Department intends to issue assessment instructions to CBP on or after 41 days following the publication of the final results of this review.

Cash Deposit Requirements

The following cash deposit requirements will be effective, upon completion of the final results of this administrative review, for all shipments of LWR pipe and tube from Mexico entered, or withdrawn from warehouse, for consumption on or after the date of publication of the final results of review, as provided by section 751(a)(2)(C) of the Act: (1) The cash deposit rates for the companies covered by this review (i.e., Maquilacero and Regiopytsa) will be equal to the weighted-average dumping margins established in the final results of this review, except if the rate is de minimis, in which case the cash deposit rate will be zero percent; (2) for previously reviewed or investigated companies not listed above, the cash deposit rate will continue to be the company-specific cash deposit rate established for the most recently completed segment of this proceeding; (3) if the exporter is not a firm covered in this review, a previous review, or the less-than-fair-value investigation but the manufacturer is, then the cash deposit rate will be the cash deposit rate established for the manufacturer of the merchandise for the most recently completed segment of this proceeding; and (4) if neither the exporter nor the manufacturer is a firm covered in this or any previously completed segment of this proceeding, then the cash deposit rate will be the all-others rate of 3.76 percent, as established in the less-than-fair value investigation.⁹ These deposit requirements, when imposed, shall remain in effect until further notice.

⁹ See Orders, 73 FR at 45404.

Notifications

This notice serves as a preliminary reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

We are issuing and publishing these results in accordance with sections 751(a)(1) and 777(i)(1) of the Act and 19 CFR 351.213.

Dated: August 30, 2013.
Paul Piquado,
Assistant Secretary for Import Administration.

Appendix I

List of Topics Discussed in the Preliminary Decision Memorandum

1. Background

2. Scope of the Order

3. Discussion of Methodology

4. Recommendation

[FR Doc. 2013-21775 Filed 9-5-13; 8:45 am]

BILLING CODE 3510-DS-P